DEPARTMENT OF TRANSPORTATION

Federal Aviation Administration

14 CFR Part 39

[Docket No. FAA-2015-0497; Directorate Identifier 2012-NM-192-AD; Amendment 39-18128; AD 2015-06-10]

RIN 2120-AA64

Airworthiness Directives; ATR-GIE Avions de Transport Régional Airplanes

AGENCY: Federal Aviation Administration (FAA), Department of Transportation (DOT).

ACTION: Final rule; request for comments.

SUMMARY: We are adopting a new airworthiness directive (AD) for certain ATR-GIE Avions de Transport Régional Model ATR72-212A airplanes. This AD requires inspection of the shock mount pick-up fittings and cone bolts, and replacement of certain shock mount pick-up fittings if necessary. This AD was prompted by reports of several cases of engine shock mount pick-up fittings with cracks or failure on the engine left-hand (LH) aft side attachment. We are issuing this AD to detect and correct an aft side attachment pick-up fitting failure associated with a cone bolt failure that could reduce the structural integrity of the concerned engine nacelle, and possibly result in detachment of the engine and consequent reduced control of the airplane.

DATES: This AD becomes effective May 5, 2015.

The Director of the Federal Register approved the incorporation by reference of certain publications listed in this AD as of May 5, 2015.

We must receive comments on this AD by June 4, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. You may view this referenced service information at the FAA, Transport Airplane Directorate, 1601 Lind Avenue SW., Renton, WA. For information on the availability of this material at the FAA, call 425-227-1221. It is also available on the Internet at http://www.regulations.gov by searching for and locating Docket No. FAA-2015-0497.

Examining the AD Docket

You may examine the AD docket on the Internet at http://www.regulations.gov by searching for and locating Docket No. FAA-2015-0497; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

The European Aviation Safety Agency (EASA), which is the Technical Agent for the Member States of the European Union, has issued EASA Airworthiness Directive 2012-0192, dated September 21, 2012 (corrected September 24, 2012) (referred to after this as the Mandatory Continuing Airworthiness Information, or “the MCAI”), to correct an unsafe condition for certain ATR-GIE Avions de Transport Régional Model ATR72-212A airplanes. The MCAI states:

Several cases of engine shock mount pick-up fitting with crack or failure have been reported, always on engine Left Hand (LH) aft side attachment. Prompted by those reports, improved Part Number (P/N) S54210394200 (Barry Control P/N 94423-05) fittings (machined radius modification) have been introduced in production, having serial number (s/n) 2451 and higher. No crack has been reported on aeroplanes equipped with those improved fittings.

Two recent cases of failed cone bolt have been reported on ATR 72-212A aeroplanes, both on engine Right Hand (RH) aft side isolator.

An aft side attachment pick-up fitting failure associated to a cone bolt failure, if not detected and corrected, could reduce the structural integrity of the concerned engine nacelle, possibly resulting in detachment of the engine and consequent reduced control of the aeroplane.

For the reasons described above, this [EASA] AD requires a one-time [detailed] inspection [for cracks] of the shock mount pick-up fittings and cone bolts and, depending on findings, accomplishment of applicable repair. This AD also requires replacement of all LH shock mount pick-up fitting P/N S54210394200 having a s/n lower than 2451.

* * * * *

You may examine the MCAI on the Internet at http://www.regulations.gov by searching for and locating Docket No. FAA-2015-0497.

Related Service Information Under 1 CFR Part 51

ATR-GIE Avions de Transport Régional (ATR) has issued the following service information. The service information describes procedures for a detailed visual inspection of the engine shock mounts. The actions described in this service information are intended to correct the unsafe condition identified in the MCAI.

• ATR ATR72 airplane maintenance manual (AMM) Job Instruction Card 54-11-61 DVI 10000, Detailed Visual Inspection of Forward Engine Mount, dated March 1, 2012.

• ATR ATR72 AMM Job Instruction Card 71-20-00 DVI 10000, Detailled (sic) Visual Inspec[tion] of Engine Shockmounts, dated March 1, 2012.

This service information is reasonably available; see ADDRESSES for ways to access this service information.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2015-0497; Directorate Identifier 2012-NM-192-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected airplanes on the U.S. Register. However, if an affected airplane is imported and placed on the U.S. Register in the future, we estimate that it will take about 3 work-hours per product to comply with the basic requirements of this AD. The average labor rate is $85 per work-hour. Based on these figures, we estimate the cost of this AD on U.S. operators to be $255 per product.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave., SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-06-10 ATR-GIE Avions de Transport Régional: Amendment 39-18128. Docket No. FAA-2015-0497; Directorate Identifier 2012-NM-192-AD.

(a) Effective Date

This AD becomes effective May 5, 2015.

(b) Affected ADs

None.

(c) Applicability

This AD applies to ATR-GIE Avions de Transport Régional Model ATR72-212A airplanes, certificated in any category, manufacturer serial numbers 468 through 719 inclusive, 723, 776, 777, 779, 821, and 837.

(d) Subject

Air Transport Association (ATA) of America 54, Nacelles/Pylons.

(e) Reason

This AD was prompted by reports of several cases of engine shock mount pick-up fittings with cracks or failure on the engine left-hand (LH) aft side attachment. We are issuing this AD to detect and correct an aft side attachment pick up fitting failure associated with a cone bolt failure that could reduce the structural integrity of the concerned engine nacelle, and possibly result in detachment of the engine and consequent reduced control of the airplane.

(f) Compliance

Comply with this AD within the compliance times specified, unless already done.

(g) Engine Shock Mount Pick-up Fittings Inspection

Within 6 months after the effective date of this AD, accomplish the actions specified by paragraphs (g)(1), (g)(2), and (g)(3) of this AD concurrently.

(1) Identify the serial number (S/N) of the part number (P/N) S54210394200 (Barry Control P/N 94423-05) LH and right-hand (RH) shock mount pick-up fittings installed on both engine nacelles. Figure 1 to paragraph (g)(1) of this AD identifies the fitting part number and serial number locations.

BILLING CODE 4910-13-C

(2) Do a detailed inspection of both LH and RH aft side isolator pick-up fittings on both engines to detect cracks, in accordance with paragraph 004.1 of ATR ATR72 Aircraft Maintenance Manual (AMM) Job Instruction Card (JIC) 54-11-61 DVI 10000, dated March 1, 2012. Refer to figure 2 to paragraph (g)(2) of this AD for potential crack location.

(3) Do a detailed inspection of both LH and RH aft shock mount cone bolts on both engines to detect cracks, in accordance with paragraph 006.3.A. of ATR ATR72 AMM JIC 71-20-00 DVI 10000. Refer to figure 3 to paragraph (g)(3) of this AD for potential crack location.

(h) Corrective Actions

(1) If any crack is found during any inspection required by paragraphs (g)(2) and (g)(3) of this AD: Before further flight, repair in accordance with a method approved by the Manager, International Branch, ANM-116, Transport Airplane Directorate, FAA; or EASA; or ATR's EASA Design Organization Approval (DOA).

(2) If the serial number of the LH shock mount pick-up fitting, identified during any inspection required by paragraph (g)(1) of this AD, is lower than 2451 or is unreadable, and no crack has been found during any inspection required by paragraphs (g)(2) and (g)(3) of this AD: Within 6 months after the inspection required by paragraph (g)(2) of this AD, replace the LH shock mount pick-up fitting P/N S54210394200 with a serviceable LH shock mount pick-up fitting having a serial number equal to or higher than 2451, in accordance with a method approved by the Manager, International Branch, ANM-116, Transport Airplane Directorate, FAA; or EASA; or ATR—GIE Avions de Transport Régional's EASA DOA.

(i) Parts Installation Limitation

As of the effective date of this AD, do not install on any airplane a LH shock mount pick-up fitting P/N S54210394200, unless it is serviceable and has been determined to have an S/N equal to or higher than 2451, in accordance with the requirements of paragraph (g)(1) of this AD.

(j) Reporting Requirement

Submit a report of the findings (both positive and negative) of the inspections required by paragraphs (g)(1), (g)(2), and (g)(3) of this AD to ATR at techdesk@atr.fr and continued.airworthiness@atr.fr at the applicable time specified in paragraph (j)(1) or (j)(2) of this AD. The report must include the airplane serial number, registration, inspection date, inspection results, and engine pick-up serial numbers.

(1) If the inspection was done on or after the effective date of this AD: Submit the report within 30 days after the inspection.

(2) If the inspection was done before the effective date of this AD: Submit the report within 30 days after the effective date of this AD.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or ATR-GIE Avions de Transport Régional's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Related Information

(1) Refer to Mandatory Continuing Airworthiness Information (MCAI) EASA Airworthiness Directive 2012-0192, dated September 21, 2012 (corrected September 24, 2012), for related information. You may examine the MCAI on the Internet at http://www.regulations.gov by searching for and locating Docket No. FAA-2015-0497.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR ATR72 Airplane Maintenance Manual (AMM) Job Instruction Card 54-11-61 DVI 10000, Detailed Visual Inspection of Forward Engine Mount, dated March 1, 2012.

(ii) ATR ATR72 AMM Job Instruction Card 71-20-00 DVI 10000, Detailled (sic) Visual Inspec[tion] of Engine Shockmounts, dated March 1, 2012.

(3) For service information identified in this AD, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 19, 2015.
Michael Kaszycki,
Acting Manager, Transport Airplane Directorate, Aircraft Certification Service.

[FR Doc. 2015-07162 Filed 4-17-15; 8:45 am]

BILLING CODE 4910-13-P